DEPARTMENT OF LABOR

Mine Safety and Health Administration

Proposed Collection; Comment Request; Coal Mine Dust Sampling Devices

AGENCY: Mine Safety and Health Administration, Labor.

ACTION: 60-Day Notice.

SUMMARY: The Department of Labor, as part of its continuing effort to reduce paperwork and respondent burden, conducts a pre-clearance consultation program to provide the general public and Federal agencies with an opportunity to comment on proposed and continuing collections of information in accordance with the Paperwork Reduction Act of 1995. This program helps to assure that requested data can be provided in the desired format, reporting burden (time and financial resources) is minimized, collection instruments are clearly understood, and the impact of collection requirements on respondents can be properly assessed.

DATES: All comments must be postmarked or received by midnight Eastern Standard Time on July 1, 2013.

ADDRESSES: Comments concerning the information collection requirements of this notice must be clearly identified with “OMB 1219-0001” and sent to the Mine Safety and Health Administration (MSHA). Comments may be sent by any of the methods listed below.

• Federal E-Rulemaking Portal: http://www.regulations.gov. Follow the on-line instructions for submitting comments for docket number [MSHA-2013-0008].

• Regular Mail or Hand Delivery: MSHA, Office of Standards, Regulations, and Variances, 1100 Wilson Boulevard, 21st floor, Room 2350, Arlington, VA 22209-3939.

FOR FURTHER INFORMATION CONTACT: Sheila McConnell, Deputy Director, Office of Standards, Regulations, and Variances, MSHA, at McConnell.Sheila.A@dol.gov (email); 202-693-9440 (voice); or 202-693-9441 (facsimile).

SUPPLEMENTARY INFORMATION:

I. Background

Continuous Personal Dust Monitors (CPDMs) determine the concentration of respirable dust in coal mines. CPDMs must be designed and constructed for coal miners to wear and operate without impeding their ability to perform their work safely and effectively, and must be durable to perform reliably in normal working conditions of coal mines. Requirements for MSHA and NIOSH approval of the manufacture of CPDMs are defined in 30 CFR part 74. Paperwork requirements imposed on applicants are related to the application process and CPDM testing procedures.

II. Desired Focus of Comments

The Mine Safety and Health Administration (MSHA) is soliciting comments concerning the proposed extension of the information collection related to Coal Mine Dust Sampling Devices. MSHA is particularly interested in comments that:

• Evaluate whether the collection of information is necessary for the proper performance of the functions of the agency, including whether the information has practical utility;

• Evaluate the accuracy of the MSHA's estimate of the burden of the collection of information, including the validity of the methodology and assumptions used;

• Suggest methods to enhance the quality, utility, and clarity of the information to be collected; and

• Address the use of appropriate automated, electronic, mechanical, or other technological collection techniques or other forms of information technology (e.g., permitting electronic submissions of responses), to minimize the burden of the collection of information on those who are to respond.

OMB clearance requests are available on MSHA's Web site at http://www.msha.gov under “Federal Register Documents” on the right side of the screen by selecting “New and Existing Information Collections and Supporting Statements”. The document will be available on MSHA's Web site for 60 days after the publication date of this notice, and on regulations.gov. Comments submitted in writing or in electronic form will be made available for public inspection on regulations.gov. Because comments will not be edited to remove any identifying information, MSHA cautions the commenter against including any information in the submission that should not be publicly disclosed.

The public also may examine publicly available documents, including the public comment version of the supporting statement, at MSHA, Office of Standards, Regulations, and Variances, 1100 Wilson Boulevard, Room 2350, Arlington, VA 22209-3939.

Questions about the information collection requirements may be directed to the person listed in the FOR FURTHER INFORMATION CONTACT section of this notice.

III. Current Actions

The information obtained from applicants will be used to determine compliance with 30 CFR part 74.

MSHA has updated the number of respondents and responses, as well as the total burden hours and burden costs supporting this information collection request.

MSHA does not intend to publish the results from this information collection and is not seeking approval to either display or not display the expiration date for the OMB approval of this information collection.

There are no certification exceptions identified with this information collection and the collection of this information does not employ statistical methods.

Summary

Type of Review: Extension of a currently approved information collection.

Agency: Mine Safety and Health Administration.

Title: Coal Mine Dust Sampling Devices.

OMB Number: 1219-0147.

Affected Public: Business or other for-profit.

Cite/Reference/Form/etc: 30 CFR 74.7, 74.8, 74.11, 74.13 and 74.16.

Total Number of Respondents: 1.

Frequency: Various.

Total Number of Responses: 1.

Total Burden Hours: 41 hours.

Total Annual Respondent or Recordkeeper Cost Burden: $291,139.

Comments submitted in response to this notice will be summarized and included in the request for Office of Management and Budget approval of the information collection request; they will also become a matter of public record.

Authority: 44 U.S.C. 3506(c)(2)(A).

Dated: April 25th, 2013.
George F. Triebsch,
Certifying Officer.

[FR Doc. 2013-10145 Filed 4-29-13; 8:45 am]

BILLING CODE 4510-43-P